COMMISSION ON CIVIL RIGHTS

Agenda and Notice of Public Meeting of the Rocky Mountain Regional Office Advisory Committees

Notice is hereby given, pursuant to the provisions of the rules and regulations of the U.S. Commission on Civil Rights, that a conference call of the Rocky Mountain Regional Office Advisory Committee to the Commission will convene at 12 p.m. and adjourn at 1:15 p.m. on Monday, May 12, 2003. The purpose of the conference call is to discuss individual Advisory Committee activities and plans that followed the January 9, 2003 meeting in Albuquerque.

This conference call is available to the public through the following call-in number: 1-800-659-8294, access code 16702460. Any interested member of the public may call this number and listen to the meeting. Callers can expect to incur charges for calls not initiated using the supplied call-in number or made over wireless lines, and the Commission will not refund any incurred charges. Callers will incur no charge for calls using the call-in number over landline connections. Persons with hearing impairments may also follow the proceedings by first calling the Federal Relay Service at 1-800-977-8339 and providing the Service with the conference call number and access code.

To ensure that the Commission secures an appropriate number of lines for the public, persons are asked to register by contacting, John Dulles, Director of the Rocky Mountain Regional Office, 303-866-1040 (TDD 303-866-1049), by 4 p.m. on Friday May 9, 2003.

The meeting will be conducted pursuant to the provisions of the rules and regulations of the Commission.

Dated at Washington, DC, April 28, 2003.
Ivy L. Davis,
Chief, Regional Programs Coordination Unit.

[FR Doc. 03-11883 Filed 5-12-03; 8:45 am]

BILLING CODE 6335-01-P